DEPARTMENT OF HEALTH AND HUMAN SERVICES

Centers for Disease Control and Prevention

[60Day-01-19]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Evaluating HIV Prevention Programs in Community-Based Organizations (CBOs)—New—The Centers for Disease Control and Prevention (CDC), National Center for HIV, STD, and TB Prevention (NCHSTP) proposes to develop and test a model of HIV prevention community-based organization (CBO) functioning using a one time data collection questionnaire. Each CBO will be asked to answer questions related to the existence and importance of factors affecting their HIV prevention interventions. This data collection is necessary for CDC to better (a) assess CBO applications systematically for funding, (b) develop materials CBOs can use to assess their own programmatic needs and create a social map of their target populations, including a CBO profile of organizational, environmental, target population, intervention program and accomplishments characteristics, (c) better develop CBO technical assistance (TA) materials, and (d) provide TA to CBOs that have already been selected by CDC for funding. This study will also yield more hypotheses for statistical testing, instruments with reliability and validity data for use in other studies, and a model that can be used and revised to meet the context of a particular CBO. The questionnaire will be administered to 766 CBOs that have applied for CDC funding under program announcements 00023, 00100, 99047, 99091, 99092, 99096. The total annual cost to respondents is estimated at $26,044 based on an average salary of $35,000 ($17.00 per hour) for program managers.

Respondents | No. of respondents | No. of responses per respondent | Average burden per response (in hrs.) | Total burden (in hrs.)
Model Survey | 766 | 1 | 2 | 1532
Total |  |  |  | 1532

Dated: February 1, 2001.
Nancy Cheal,
Acting Associate Director for Policy, Planning, and Evaluation, Centers for Disease Control and Prevention (CDC).

[FR Doc. 01-3178 Filed 2-6-01; 8:45 am]

BILLING CODE 4163-18-P